Executive Order 13386 of September 30, 2005

Further Amendment to Executive Order 13369, Relating to the President's Advisory Panel on Federal Tax Reform

By the authority vested in me as President by the Constitution and the laws of the United States of America, and to further extend the reporting deadline of the President's Advisory Panel on Federal Tax Reform, it is hereby ordered as follows:

Section 1. Section 5 of Executive Order 13369 of January 7, 2005, as amended by Executive Order 13379 of June 16, 2005, is further amended by deleting “September 30, 2005” and inserting in lieu thereof “November 1, 2005”.

Sec. 2. Section 7 of Executive Order 13369 of January 7, 2005, is further amended by deleting “30 days after submitting its report pursuant to section 5 of this order” and inserting in lieu thereof “November 15, 2005”.

Sec. 3. This order is not intended to, and does not, create any right or benefit, substantive or procedural, enforceable at law or in equity, against the United States, its departments, agencies, entities, officers, employees or agents, or any other person.

B

THE WHITE HOUSE,

September 30, 2005.

[FR Doc. 05-20156

Filed 10-4-05; 9:57 am]

Billing code 3195-01-P